DEPARTMENT OF DEFENSE

Office of the Secretary

32 CFR Part 145

[Docket ID: DOD-2025-OS-0441]

RIN 0790-AL88

Cooperation With the Office of Special Counsel of the Merit Systems Protection Board

AGENCY: Office of the General Counsel, Department of Defense (DoD).

ACTION: Final rule.

SUMMARY: This final rule removes this DoD regulation concerning cooperation with the Office of Special Counsel (OSC) in carrying out OSC's responsibilities to conduct investigations of alleged prohibited personnel practices and ensure the investigation of other allegations of improper or illegal conduct that OSC refers to DoD. This part does not reflect the current policy set forth in the DoD directive referenced in the SUPPLEMENTARY INFORMATION section, and is being removed rather than updated. The rule does not impose obligations on members of the public. Therefore, this part may be removed from the CFR.

DATES: This final rule is effective March 4, 2026.

FOR FURTHER INFORMATION CONTACT: William R. Sprance, 703-571-9457.

SUPPLEMENTARY INFORMATION:

I. Background

This final rule removes this DoD regulation concerning cooperation with the OSC in carrying out OSC's responsibilities under Public Law 95-454 and 5 CFR parts 1201 and 1250 to conduct investigations of alleged prohibited personnel practices and ensure the investigation of other allegations of improper or illegal conduct that OSC refers to DoD. Part 145 does not reflect the current policy set forth in DoD Directive 5500.19, “Cooperation with the United States Office of Special Counsel (OSC),” May 4, 2004 (available at https://www.esd.whs.mil/Portals/54/Documents/DD/issuances/dodd/550019p.pdf?ver=DfZFJBjmU3vWP8sAiq_dFQ%3d%3d), and is being removed rather than updated.

II. Publication of This Final Rule for Public Comment Is Not Required by Statute

It has been determined that publication of this final rule in the CFR for public comment is impracticable, unnecessary, and contrary to public interest, because DoD is merely removing a provision no longer in effect. On May 9, 1986, part 145 was published as a final rule at 51 Federal Register 17178.

III. E.O. 12866, “Regulatory Planning and Review,” and E.O. 13563, “Improving Regulation and Regulatory Review”

E.O.s 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 3(f) of E.O. 12866, dated September 30, 1993.

IV. E.O. 14192, Unleashing Prosperity Through Deregulation”

This rule is not subject to E.O. 14192, because this rule is not a significant regulatory action under E.O. 12866.

V. Congressional Review Act (5 U.S.C. 801 et seq.)

Pursuant to the Congressional Review Act, this rule has not been designated a major rule, as defined by 5 U.S.C. 804(2).

VI. Public Law 96-354, “Regulatory Flexibility Act” (5 U.S.C. 601 et seq.)

It has been that certified this rule is not subject to the Regulatory Flexibility Act (5 U.S.C. 601) because it would not, if promulgated, have a significant economic impact on a substantial number of small entities. Therefore, the Regulatory Flexibility Act, as amended, does not require us to prepare a regulatory flexibility analysis.

VII. Sec. 202, Public Law 104-4, “Unfunded Mandates Reform Act”

Section 202 of the Unfunded Mandates Reform Act of 1995 (2 U.S.C. 1532) requires agencies to assess anticipated costs and benefits before issuing any rule whose mandates require spending in any 1 year of $100 million in 1995 dollars, updated annually for inflation. This rule will not mandate any requirements for state, local, or tribal governments, and will not affect private sector costs.

VIII. Public Law 96-511, “Paperwork Reduction Act” (44 U.S.C. 3501 et seq.)

The rule does not contain any information collection requirements that require the approval of the Office of Management and Budget under the Paperwork Reduction Act (44 U.S.C. chapter 35).

IX. E.O. 13132, “Federalism”

E.O. 13132 establishes certain requirements that an agency must meet when it promulgates a final rule that imposes substantial direct requirement costs on state and local governments, preempts state law, or otherwise has federalism implications. This rule will not have a substantial effect on State and local governments.

X. E.O. 13175, “Consultation and Coordination With Indian Tribal Governments”

E.O. 13175 establishes certain requirements that an agency must meet when it promulgates a final rule that imposes substantial direct compliance costs on one or more Indian tribes, preempts tribal law, or effects the distribution of power and responsibilities between the Federal Government and Indian tribes. This rule will not have a substantial effect on Indian tribal governments.

List of Subjects in 32 CFR Part 145

Equal employment opportunity, Government employees, Investigations, Merit Systems Protection Board.

PART 145—[REMOVED]

Accordingly, by the authority of 5 U.S.C. 301, 32 CFR part 145 is removed.

Dated: March 2, 2026.
Aaron T. Siegel,
Alternate OSD Federal Register Liaison Officer, Department of Defense.

[FR Doc. 2026-04315 Filed 3-3-26; 8:45 am]

BILLING CODE 6001-FR-P